DEPARTMENT OF HEALTH AND HUMAN SERVICES

Centers for Disease Control and Prevention

[30Day-06-0463]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Longitudinal Surveillance for Beryllium Disease Prevention—0920-0463—Extension—National Institute for Occupational Safety and Health (NIOSH)—Centers for Disease Control and Prevention (CDC).

Background and Brief Description

The mission of the National Institute for Occupational Safety and Health (NIOSH) is to promote safety and health at work for all people through research and prevention. The Occupational Safety and Health Act, Public Law 91-596 (section 20[a][1]) authorizes the National Institute for Occupational Safety and Health (NIOSH) to conduct research to advance the health and safety of workers. NIOSH is conducting a study of beryllium workers. Beryllium is a lightweight metal with many applications. Exposed workers may be found in the primary production, nuclear power and weapons, aerospace, scrap metal reclamation, specialty ceramics, and electronics industries, among others. The size of the U.S. workforce at risk of chronic beryllium disease (CBD), from either current or past work-related exposure to the metal, may be as high as one million. Demand for beryllium is growing worldwide, which means that increasing numbers of workers are likely to be exposed.

CBD is a chronic granulomatous lung disease mediated through an immunologic mechanism in workers who become sensitized to the metal. Sensitization can be detected with a blood test called the beryllium lymphocyte proliferation test (BeLPT), which is used by the industry as a surveillance tool. Use of this test for surveillance was first reported in 1989. Sensitized workers, identified through workplace surveillance programs, undergo clinical diagnostic tests to determine whether they have CBD. Research has indicated certain genetic determinants in the risk of CBD; follow-up studies will be invaluable for further characterizing the genetic contribution to sensitization and disease.

NIOSH is in a unique position to accomplish this research for a number of reasons: (a) It has a successful collaboration with the leading manufacturer of beryllium in the US. This has allowed us to establish well-characterized worker cohorts within the beryllium industry. (b) It is conducting industrial hygiene research that should significantly improve workplace-based exposure assessment methods. This research will allow characterization of jobs and tasks by physicochemical characteristics, leading to an estimation of dose rather than mass concentration-based exposure. (c) It has pioneered the evaluation of the dermal exposure route in the beryllium sensitization process. (d) It has developed and improved genetic research that will contribute to the understanding of risk variability in sensitization and disease, as well as discerning the underlying mechanisms. (e) NIOSH has the institutional stability to continue longitudinal evaluations of health outcomes in relation to exposure and genetic risk factors.

NIOSH has been conducting this survey of beryllium workers for three years and this extension will allow for completion of the data collection on former workers. Workers are asked to complete an interviewer administered medical and work history questionnaire and to give a blood sample. Without medical and work history data on former workers, NIOSH staff will be unable to conduct the necessary research to make recommendations for preventing beryllium sensitization and disease. Follow-up on this cohort will provide invaluable information on the natural history of disease, gene-gene, and gene-environment interactions, which can become the basis for prevention policy at both company and government levels.

There are no costs to the respondents other than their time. The only change to this previously approved project is a decrease in the burden hours because the proposed data collection is almost complete. The total estimated annualized burden hours are 50.

Estimated Annualized Burden Hours
Respondents | Number of respondents | Number of responses per respondent | Average burden per response (in hours)
Former Workers | 100 | 1 | 30/60

Dated: February 21, 2006.
Joan F. Karr,
Acting Reports Clearance Officer, Centers for Disease Control and Prevention.

1

[FR Doc. E6-2710 Filed 2-24-06; 8:45 am]

BILLING CODE 4163-18-P